DEPARTMENT OF HEALTH AND HUMAN SERVICES

Centers for Medicare & Medicaid Services

[CMS-2189-CN]

RIN 0938-ZA46

Medicaid Program; Real Choice Systems Change Grants; Correction Notice

AGENCY: Centers for Medicare & Medicaid Services (CMS), HHS.

ACTION: Notice; correction.

SUMMARY: This document corrects technical errors that appeared in the notice published in the Federal Register on May 18, 2004 entitled “Medicaid Program; Real Choice Systems Change Grants.”

DATES: Effective Date: May 18, 2004.

FOR FURTHER INFORMATION CONTACT: Mary Guy, (410) 786-2772.

SUPPLEMENTARY INFORMATION:

I. Background

In FR Doc. 04-11241 of May 18, 2004 (69 FR 28133), there were technical errors that are identified and corrected in the Correction of Errors section below. The provisions in this correction notice are effective as if they had been included in the document published May 18, 2004. Accordingly, the corrections are effective May 18, 2004.

II. Correction of Errors

In FR Doc. 04-11241 of May 18, 2004 (69 FR 28133), make the following corrections:

1. On page 28139, in column 2, “Application Deadline,” of the table entitled, “Table of Real Choice Systems Change Grants—FY 2004,” “OFR—Insert 60 days after the date of publication in the Federal Register” is removed, and “July 19, 2004” is added in its place wherever it appears.

2. On page 28140, in column 2, “Application Deadline,” of the table entitled, “Table of Real Choice Systems Change Grants—FY 2004,” “OFR—Insert 60 days after the date of publication in the Federal Register” is removed, and “July 19, 2004” is added in its place wherever it appears.

III. Waiver of Proposed Rulemaking

We ordinarily publish a notice of proposed rulemaking in the Federal Register to provide a period for public comment before the provisions of a notice such as this take effect. We can waive this procedure, however, if we find good cause that a notice and comment procedure is impracticable, unnecessary, or contrary to the public interest and incorporate a statement of the finding and its reasons in the notice issued.

We find it unnecessary to undertake notice and comment rulemaking because this notice merely provides technical corrections and does not make any substantive policy changes. Therefore, for good cause, we waive notice and comment procedures.

(Catalog of Federal Domestic Assistance Program No. 93.778, Medical Assistance Program)

Dated: June 16, 2004.
Mark B. McClellan,
Administrator, Centers for Medicare & Medicaid.

[FR Doc. 04-14053 Filed 6-24-04; 8:45 am]

BILLING CODE 4120-01-P